NUCLEAR REGULATORY COMMISSION

[Docket Nos. 50-245, 50-336 and 50-423]

Dominion Nuclear Connecticut, Inc.; Millstone Nuclear Power Station, Units 1, 2, and 3 Environmental Assessment and Finding of No Significant Impact

The U.S. Nuclear Regulatory Commission (NRC) is considering issuance of an amendment to Facility Operating License No. DPR-21 issued to Dominion Nuclear Connecticut, Inc. (the licensee) for the Millstone Nuclear Power Station, Unit 1, a permanently shutdown nuclear facility located in Waterford, Connecticut, and to Facility Operating License Nos. DPR-65 and NPF-49, issued to Dominion Nuclear Connecticut, Inc., for operation of the Millstone Nuclear Power Station, Units 2 and 3, located in Waterford, Connecticut. Therefore, as required by 10 CFR 51.21, the NRC is issuing this environmental assessment and finding of no significant impact.

Environmental Assessment

Identification of the Proposed Action

The proposed action would revise the physical protection (security) related license condition to indicate that the physical security program plans listed may, rather than do, contain safeguards information; and change the name of the ‘Millstone Nuclear Power Station' to the ‘Millstone Power Station.'

The proposed action is in accordance with the licensee's application dated August 8, 2001.

The Need for the Proposed Action

Currently, License Condition 2.C.(4) for Units 1 and 2 and License Condition 2.E for Unit 3, identifies the plans which describe the NRC approved program for physical protection of Millstone Units 1, 2, and 3. They are the Millstone Nuclear Power Station Physical Security Plan, the Millstone Nuclear Power Station Suitability, Training, and Qualification Plan, and the Millstone Nuclear Power Station Safeguards Contingency Plan. License Conditions 2.C.(4) and 2.E also indicate that the plans contain safeguards information protected under 10 CFR 73.21. However, Revision 15 to the Millstone Nuclear Power Station Suitability, Training, and Qualification Plan removed safeguards information to allow declassification of the document. The proposed revision to the license conditions would allow declassification of the document. Additionally, the licensee also proposed the deletion of the word “Nuclear” from the title of the physical security program plans listed under the security related license condition and when it is used in the phrase “Millstone Nuclear Power Station” elsewhere in the operating license. This change is purely administrative and does not alter any regulatory requirements or commitments made by the licensee.

Environmental Impacts of the Proposed Action

The NRC has completed its evaluation of the proposed action and concludes that the issuance of the proposed amendment will not have an environmental impact. The proposed changes to the licenses are considered editorial or administrative in nature. The licensee does not propose any changes to structures, systems, components, site boundaries or operational practices.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Millstone Nuclear Power Station.

Agencies and Persons Consulted

On December 12, 2001, the staff consulted with the State of Connecticut official, Mr. Michael Firsick of the Connecticut Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated August 8, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS, should contact the NRC PDR Reference staff by telephone at 1-800-397-4209, or 301-415-4737, or by e-mail at pdr@nrc.gov.

For the Nuclear Regulatory Commission.
Dated at Rockville, Maryland, this 18th day of January 2002.
Stephen Dembek,
Chief, Section 2, Project Directorate IV, Division of Licensing Project Management, Office of Nuclear Reactor Regulation.

[FR Doc. 02-1893 Filed 1-24-02; 8:45 am]

BILLING CODE 7590-01-P